FEDERAL TRADE COMMISSION

Agency Information Collection Activities; Submission for OMB Review; Comment Request

AGENCY: Federal Trade Commission (“FTC” or “Commission”).

ACTION: Notice.

SUMMARY: The FTC seeks public comments on its proposal to the Office of Management and Budget (“OMB”) to extend through June 30, 2016, the current Paperwork Reduction Act (“PRA”) clearance for the FTC's enforcement of the information collection requirements in its regulation “Duties of Furnishers of Information to Consumer Reporting Agencies” (“Information Furnishers Rule”), which applies to certain motor vehicle dealers, and its shared enforcement with the Consumer Financial Protection Bureau (“CFPB”) of the furnisher provisions (subpart E) of the CFPB's Regulation V regarding other entities. That clearance expires on June 30, 2013.

DATES: Comments must be filed by July 1, 2013.

ADDRESSES: Interested parties may file a comment online or on paper, by following the instructions in the Request for Comment part of the SUPPLEMENTARY INFORMATION section below. Write “Information Furnishers Rule, PRA Comment, P135407,” on your comment and file your comment online at https://ftcpublic.commentworks.com/ftc/infofurnishersrulepra2 by following the instructions on the web-based form. If you prefer to file your comment on paper, mail or deliver your comment to the following address: Federal Trade Commission, Office of the Secretary, Room H-113 (Annex J), 600 Pennsylvania Avenue NW., Washington, DC 20580.

FOR FURTHER INFORMATION CONTACT: Monique Einhorn, Attorney, Division of Privacy and Identity Protection, Bureau of Consumer Protection, (202) 326-2575, 600 Pennsylvania Ave. NW., Room NJ-8100, Washington, DC 20580.

SUPPLEMENTARY INFORMATION: On March 14, 2013, the Commission sought comment on the information collection requirements associated with the Information Furnishers Rule and the Commission's shared enforcement with the CFPB of the furnisher provisions in subpart E of the CFPB's Regulation V. 78 FR 16265 (March 14, 2013). No comments were received. Pursuant to the OMB regulations, 5 CFR Part 1320, that implement the PRA, 44 U.S.C. 3501 et seq., the FTC is providing this second opportunity for public comment while seeking OMB approval to renew the pre-existing clearance for those information collection requirements. For more details about the Rule requirements, the background behind these information collection provisions, and the basis for the calculations summarized below, see 78 FR 16265. The burden figures below reflect solely the FTC's estimates assigned to itself, including a portion reflective of its sole enforcement authority for certain motor vehicle dealers subject to the FTC rule.¹

¹ The FTC retains rulemaking authority for its Information Furnishers Rule solely for motor vehicle dealers described in section 1029(a) of the Dodd-Frank Wall Street Reform and Consumer Protection Act (Pub. L. 111-203, 124 Stat. 1376 (2010)) that are predominantly engaged in the sale and servicing of motor vehicles, the leasing and servicing of motor vehicles, or both.

Title: Duties of Furnishers of Information to Consumer Reporting Agencies.

OMB Control Number: 3084-0144.

Type of Review: Extension of currently approved collection.

Estimated Annual Burden:

Section 660.3 of FTC Rule/Section 1022.42 of CFPB Rule: 7,972 hours and $397,883 ² in associated labor costs.

² This is an increase from the labor cost estimate in the March 14, 2013 Federal Register Notice, attributable to an intervening annual release from the Bureau of Labor Statistics. Within it, the mean hourly wage for “Training and development managers” rose from the previously shown amount of $47.73 to $49.91. See http://www.bls.gov/news.release/pdf/ocwage.pdf “Occupational Employment and Wages-May 2012,” Bureau of Labor Statistics, U.S. Department of Labor, released March 2013, Table 1 (“National employment and wage data from the Occupational Employment Statistics survey by occupation, May 2011”) (hereinafter, “BLS Table 1”).

Section 660.4 of FTC Rule/Section 1022.43 of CFPB Rule: 2,635 hours and $55,414 ³ in associated labor costs.

³ This, too, is an increase from the labor cost estimate in the March 14, 2013 Federal Register Notice, attributable to an averaging of updated Bureau of Labor Statistics mean hourly wages for potentially analogous employee types: First-line supervisors of office and administrative support workers ($25.40); accounting and auditing clerks ($17.62); brokerage clerks ($21.34); eligibility interviewers, government programs ($19.74). See BLS Table 1. This averages out to $21.03 per hour, rounded.

Thus, total estimated burden under the above-noted regulatory sections is 10,607 hours and $453,297 in associated labor costs. Commission staff believes that the Information Furnishers Rule and subpart E of Regulation V impose negligible capital or other non-labor costs, as the affected entities are already likely to have the necessary supplies and/or equipment (e.g., offices and computers) for the associated information collection provisions.

Request for Comment: You can file a comment online or on paper. For the Commission to consider your comment, we must receive it on or before July 1, 2013. Write “Information Furnishers Rule, PRA Comment, P135407” on your comment. Your comment—including your name and your state—will be placed on the public record of this proceeding, including to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16 CFR 4.10(a)(2). In particular, do not include competitively sensitive information such as costs, sales statistics, inventories, formulas, patterns devices, manufacturing processes, or customer names.

If you want the Commission to give your comment confidential treatment, you must file it in paper form, with a request for confidential treatment, and you have to follow the procedure explained in FTC Rule 4.9(c).⁴ Your comment will be kept confidential only if the FTC General Counsel, in his or her sole discretion, grants your request in accordance with the law and the public interest.

⁴ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/infofurnishersrulepra2, by following the instructions on the web-based form. If this Notice appears at http://www.regulations.gov/#!home, you also may file a comment through that Web site.

If you file your comment on paper, write “Information Furnishers Rule, PRA Comment, P135407” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at www.ftc.gov to read this Notice. The FTC Act and other laws that the Commission administers permit the collection of public comments to consider and use in this proceeding as appropriate. The Commission will consider all timely and responsive public comments that it receives on or before July 1, 2013. You can find more information, including routine uses permitted by the Privacy Act, in the Commission's privacy policy, at http://www.ftc.gov/ftc/privacy.htm.

Comments on the disclosure requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Acting General Counsel.

[FR Doc. 2013-12931 Filed 5-30-13; 8:45 am]

BILLING CODE 6750-01-P